DEPARTMENT OF EDUCATION

Office of Elementary and Secondary Education, Overview Information, Migrant Education Program (MEP) Consortium Incentive Grants Program; Notice Inviting Applications for New Awards for Fiscal Year (FY) 2004

Catalog of Federal Domestic Assistance (CFDA) Number: 84.144.

DATES: Applications Available: March 3, 2004.

Deadline for Transmittal of Applications: May 28, 2004.

Deadline for Intergovernmental Review: May 3, 2004.

Eligible Applicants: State educational agencies (SEAs) receiving MEP Basic State Formula grants.

Estimated Available Funds: $2,500,000.

Estimated Range of Awards: $45,997-$91,995.

Estimated Average Size of Awards: $64,102.

Maximum Award: By statute, the maximum amount that we may award under this program is $250,000.

Estimated Number of Awards: 39.

Note: The Department is not bound by any estimates in this notice.

Project Period: Up to 24 months.

Full Text of Announcement

I. Funding Opportunity Description

Purpose of Program: The purpose of the MEP Consortium Incentive Grants program is to provide incentive grants to State educational agencies (SEAs) that participate in high-quality consortia with another SEA or other appropriate entity to improve the delivery of services to migrant children whose education is interrupted. Through this program, the Department provides financial incentives to SEAs to participate in high-quality consortia that improve the intrastate and interstate coordination of migrant education programs by addressing key needs of migratory children who have their education interrupted.

Priorities: The priorities for this competition are from the notice of final requirements for this program, published elsewhere in this issue of the Federal Register.

Absolute Priorities: For FY 2004, these priorities are absolute priorities. Under 34 CFR 75.105(c)(3) we consider only applications that meet one or more of these priorities.

Program Authority: 20 U.S.C. 6398(d).

Applicable Regulations: (a) The Education Department General Regulations (EDGAR) in 34 CFR parts 75 (except 75.232), 76, 77, 79, 80 (except 80.40(b)), 82, 85 and 99; and (b) the notice of final requirements published elsewhere in this issue of the Federal Register.

II. Award Information

Type of Award: Formula grants.

Estimated Available Funds: $2,500,000.

Estimated Range of Awards: $45,997-$91,995.

Estimated Average Size of Awards: $64,102.

Maximum Award: By statute, the maximum amount that we may award under this program is $250,000.

Estimated Number of Awards: 39.

Note: The Department is not bound by any estimates in this notice.

Project Period: Up to 24 months.

III. Eligibility Information

1. Eligible Applicants: State educational agencies (SEAs) receiving MEP Basic State Formula grants.

2. Cost Sharing or Matching: This program does not involve cost sharing or matching but does involve supplement-not-supplant funding provisions. The notice of final requirements published elsewhere in this issue of the Federal Register makes applicable the supplement-not-supplant provision of sections 1120A(b) and 1304(c)(2) of the ESEA.

IV. Application and Submission Information

1. Address to Request Application Package:

Elsa Chagolla, U.S. Department of Education, 400 Maryland Avenue, SW., room 3E257, FOB-6, Washington, DC 20202-6135. Telephone: (202) 260-2823, or by email: elsa.chagolla@ed.gov.

If you use a telecommunications device for the deaf (TDD), you may call the Federal Information Relay Service (FIRS) at 1-800-877-8339.

Individuals with disabilities may obtain this document in an alternative format (e.g., Braille, large print, audiotape, or computer diskette) by contacting the program contact person listed in this section.

2. Content and Form of Application Submission: Requirements concerning the content of an application, together with the forms an applicant must submit, are in the application package for this program.

Page Limit: The application narrative (Part IV of the application) is where you, the applicant, describe the proposed consortium, including how the consortium meets the application requirements and one or more of the absolute priorities, and address the selection criteria that reviewers use to evaluate your application. You must limit Part IV to the equivalent of no more than 30 double-spaced pages, using the following standards:

• A “page” is 8.5″ × 11″, on one side only, with 1″ margins at the top, bottom and both sides.

• Double space (no more than three lines per vertical inch) all text in the application narrative, including titles, headings, footnotes, quotations, references, and captions, as well as all text in charts, tables, figures, and graphs.

• Use a consistent font that is either 12-point or larger or no smaller than 10 pitch (characters per inch).

• For charts, tables, and graphs, also use a font that is either 12-point or larger or no smaller than 10 pitch.

The page limit applies only to Part IV of the application. It does not apply to Parts I to III or Parts V to VII, or to any appendices, resumes, bibliography, or letters of support. However, an applicant must include all of the application narrative in Part IV.

Department reviewers will not read any pages of the Part IV narrative that—

• Exceed the page limit if you apply these standards, or

• Exceed the equivalent of the page limit if you apply other standards.

3. Submission Date and Times: Applications Available: March 3, 2004.

Deadline for Transmittal of Applications: May 28,2004.

The dates and times for the transmittal of applications by mail or by hand (including a courier service or commercial carrier) are in the application package for this program.

The Department does not consider an application that does not comply with the deadline requirements. Deadline for Intergovernmental Review: May 3, 2004.

4. Intergovernmental Review: This program is subject to Executive Order 12372 and the regulations in 34 CFR part 79. Information about Intergovernmental Review of Federal Programs under Executive Order 12372 is in the application package for this program.

5. Funding Restrictions: We reference regulations outlining funding restrictions in the Applicable Regulations sections in this notice.

6. Other Submission Requirements: Instructions and requirements for the transmittal of applications by mail or by hand (including a courier service or commercial carrier) are in the application package for this program.

V. Application Review Information

Selection Criteria: The selection criteria for this program are in the application package.

VI. Award Administration Information

1. Award Notices: If a consortium application is successful, the Department will send the applicant a Grant Award Notice (GAN). The Department will also notify Congress regarding these grant awards. The Department may also notify successful applicants informally.

If an application is not evaluated or not selected for funding, the Department will notify the applicant(s).

1. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

2. Reporting: Grant recipients under this program must submit the annual and final performance and financial reports specified in the notice of final requirements for this grant program published elsewhere in this issue of the Federal Register.

3. Performance Measures: Currently, the Government Performance and Results Act (GPRA) indicators established by the Department for the Migrant Education Program, of which the Consortium Incentive Grants are a component, are that an increasing number of states will show:

(1) increasing percentages of migrant students at the elementary school level who meet or exceed the proficient level on state assessments in reading.

(2) increasing percentages of migrant students at the middle school level who meet or exceed the proficient level on state assessments in reading.

(3) increasing percentages of migrant students at the elementary school level who meet or exceed the proficient level on state assessments in mathematics.

(4) increasing percentages of migrant students at the middle school level who meet or exceed the proficient level on state assessments in mathematics.

(5) decreasing percentages of migrant students who dropout from secondary school (grades 7-12).

(6) increasing percentages of migrant students who graduate from high school.

The Department will be collecting data from States on these performance measures.

VII. Agency Contacts

FOR FURTHER INFORMATION CONTACT: Elsa Chagolla, U.S. Department of Education, 400 Maryland Avenue, SW., room 3E257, FOB-6, Washington, DC 20202-6135. Telephone: (202) 260-2823, or by e-mail: elsa.chagolla@ed.gov.

If you use a telecommunications device for the deaf (TDD), you may call the Federal Information Relay Service (FIRS) at 1-800-877-8339.

Individuals with disabilities may obtain this document in an alternative format (e.g., Braille, large print, audiotape, or computer diskette) on request to the program contact person listed in this section.

VIII. Other Information

Electronic Access to This Document: You may view this document, as well as all other documents of this Department published in the Federal Register, in text or Adobe Portable Document Format (PDF) on the Internet at the following site: http://www.ed.gov/news/fedregister.

To use PDF you must have Adobe Acrobat Reader, which is available free at this site. If you have questions about using PDF, call the U.S. Government Printing Office (GPO), toll free, at 1-888-293-6498; or in the Washington, DC, area at (202) 512-1530.

You may also view this document in text at the following site: http://www.ed.gov/about/offices/list/oese/ome/index.html.

Note: The official version of this document is the document published in the Federal Register. Free Internet access to the official edition of the Federal Register and the Code of Federal Regulations is available on GPO Access at: http://www.gpoaccess.gov/nara/index.html.

Dated: February 26, 2004.
Raymond Simon,
Assistant Secretary for Elementary and Secondary Education.

[FR Doc. 04-4720 Filed 3-2-04; 8:45 am]

BILLING CODE 4000-01-P